ENVIRONMENTAL PROTECTION AGENCY

[FRL-8469-2]

Human Impacts of Climate Change Advisory Committee (HICCAC)

AGENCY: U.S. Environmental Protection Agency (U.S. EPA).

ACTION: Meeting of the U.S. Environmental Protection Agency's Human Impacts of Climate Change Advisory Committee (HICCAC) on October 15 and 16, 2007, in Alexandria, Virginia.

SUMMARY: Pursuant to the Federal Advisory Committee Act, Public Law 92-463, as amended (5 U.S.C., App. 2) notification is hereby given that the U.S. Environmental Protection Agency, Office of Research and Development (ORD), will hold a public meeting of the Human Impacts of Climate Change Federal Advisory Committee.

DATES: The meeting will be held on October 15 and 16, 2007. The meeting will begin at 9 a.m. on October 15 and 16, and adjourn on October 16 at 3 p.m. (Eastern Time).

ADDRESSES: The meeting will be held at the Hilton Alexandria Old Town, 1767 King Street, Alexandria, Virginia 22314. The hotel is accessible on the Blue and Yellow lines at the King Street Metro Station.

Public Participation: Members of the public may attend the meeting as observers, and there will be a limited time for comments from the public in the afternoon. Please contact Joanna Foellmer, Designated Federal Official, HICCAC, no later than October 5 if you wish to make oral comments during the meeting. Requests to make oral comments must be in writing (e-mail, fax or mail) and received no later than one week prior to the meeting. Space is limited, and reservations will be accepted on a first-come, first-served basis. Please send a copy of your presentation by October 9 to Foellmer.Joanna@epa.gov or express mail to Joanna Foellmer, Charles Glover Building, 808 17th Street, NW., 4th Floor, Washington, DC 20006. Regular mail should be addressed to: Joanna Foellmer, Mail Code 8601D, U.S. Environmental Protection Agency, 1200 Pennsylvania Avenue, NW., Washington, DC 20460.

Agenda: The notice announces a meeting of the HICCAC (Human Impacts of Climate Change Advisory Committee) in the Washington, DC metropolitan area. The proposed agenda for the face-to-face meeting includes, but is not limited to, presentations by the convening lead author and by the lead authors on the impacts and adaptation of global change on human dimensions, on human health, on human settlements, and human welfare. In addition, there will be extensive discussion by the HICCAC panel with respect to their individual and collective assessment of the SAP 4.6 report. Finally, the panel will evaluate the external comments received during the public comment period.

The meeting is open to the public. Information on services for the disabled may be obtained by contacting Joanna Foellmer at 202-564-3208. Similarly, a draft agenda may be obtained by an e-mail request to Joanna Foellmer at Foellmer.Joanna@epa.gov or fax to 202-565-0061.

SUPPLEMENTARY INFORMATION: The HICCAC supports the U.S. Environmental Protection Agency (EPA) in its participation in the interagency U.S. Climate Change Science Program (CCSP), specifically in implementation of Goal 4 of the Strategic Plan for the CCSP. Goal 4 is to understand “the sensitivity and adaptability of different natural and managed ecosystems and human systems to climate and related global changes.” EPA also helps the CCSP satisfy their requirement to conduct periodic assessments of climate change and variability, as set forth in the Global Change Research Act of 1990. The HICCAC is in the public interest and supports EPA in performing its duties and responsibilities.

The primary responsibility of the HICCAC is to conduct an expert peer review of the external review draft report entitled: “Synthesis and Assessment Product 4.6: Analyses of the effects of global change on human health and welfare and human systems,” (SAP 4.6). The HICCAC will provide advice to the EPA Administrator on the conduct of this study, and within the context of the basic study plan, the HICCAC will advise on: (1) The specific issues to be addressed; (2) appropriate technical approaches; (3) the usefulness of information provided to decision makers; (4) the quality of the content of the final report; (5) compliance with the Information Quality Act; and (6) other matters important to the successful achievement of the objectives of the study. Additionally, once the Agency completes all responses to comments received from the HICCAC and the public, the HICCAC will review the Agency's responses.

EPA has already released the external draft SAP 4.6 report for public review. The Federal Register notice (FR72 39798) announcing a forty-five day public comment period was posted on the U.S. Climate Change Science Program (CCSP) Web site (http://www.climatescience.gov) on July 20, 2007. This report is accessible at http://www.epa.gov/ncea under Recent Additions and is linked to the CCSP Web site.

FOR FURTHER INFORMATION CONTACT: Questions regarding information, registration, and logistics for the HICCAC should be directed to Joanna Foellmer, telephone: 202-564-3208, e-mail: Foellmer.Joanna@epa.gov, or mailed to: Joanna Foellmer, Mail Code 8601D, U.S. Environmental Protection Agency, 1200 Pennsylvania Avenue, NW., Washington, DC 20460. Express mail should be sent to: Joanna Foellmer, Charles Glover Building, 808 17th Street, NW., 4th Floor, Washington, DC 20006.

Dated: September 11, 2007.
Peter W. Preuss,
Director, National Center for Environmental Assessment, Office of Research and Development.

[FR Doc. E7-18262 Filed 9-14-07; 8:45 am]

BILLING CODE 6560-50-P